DEPARTMENT OF TRANSPORTATION

Federal Highway Administration

Notice of Final Federal Agency Actions on Interstate 95 in the City of Fredericksburg and the Counties of Spotsylvania, Stafford, Prince William, and Fairfax, Virginia

AGENCY: Federal Highway Administration (FHWA), DOT

ACTION: Notice of Limitation on Claims for Judicial Review of Actions by FHWA.

SUMMARY: This notice announces actions taken by the FHWA that are final. The actions relate to roadway improvements to enhance Express Lane access at the I-95/Russell Road Interchange (Exit 148), as well as expand the Express Lanes approximately ten miles from near the I-95/VA 610 Interchange at Garrisonville Road (Exit 143) to near the I-95/US 17 Interchange at Warrenton Road (Exit 133), in the City of Fredericksburg and the Counties of Spotsylvania, Stafford, Prince William, and Fairfax.

DATES: By this notice, the FHWA is advising the public of final agency actions subject to 23 U.S.C. 139(l)(1). A claim seeking judicial review of the Federal agency actions on the project will be barred unless the claim is filed on or before October 5, 2018. Notwithstanding any other provision of law, a claim arising under Federal law seeking judicial review of a permit, license, or approval issued by a Federal agency for a highway or public transportation capital project shall be barred unless it is filed within 150 days after publication of a notice in the Federal Register announcing that the permit, license, or approval is final pursuant to the law under which the agency action is taken, unless a shorter time is specified in the Federal law pursuant to which judicial review is allowed.

FOR FURTHER INFORMATION CONTACT: For FHWA: Mr. Mack Frost, Planning and Environmental Specialist, Federal Highway Administration, 400 North 8th Street, Richmond, Virginia 23219; telephone: (804) 775-3352; email: Mack.frost@dot.gov. The FHWA Virginia Division Office's normal business hours are 7:00 a.m. to 5:00 p.m. (Eastern Time). For the Virginia Department of Transportation (VDOT): Mr. Scott Smizik, 1401 East Broad Street, Richmond, Virginia 23219; email: Scott.Smizik@vdot.virginia.gov; telephone: (804) 371-4082.

SUPPLEMENTARY INFORMATION: Notice is hereby given that FHWA has taken final agency actions subject to 23 U.S.C. 139(l)(1) by issuing licenses, permits, and approvals for the following project in the State of Virginia: roadway improvements to enhance Express Lane access at the I-95/Russell Road Interchange (Exit 148), as well as expand the Express Lanes approximately ten miles from near the I-95/VA 610 Interchange at Garrisonville Road (Exit 143) to near the I-95/US 17 Interchange at Warrenton Road (Exit 133), in the City of Fredericksburg and the Counties of Spotsylvania, Stafford, Prince William, and Fairfax. The actions taken by FHWA, and the laws under which such actions were taken, are described in the Revised Environmental Assessment, the Request for the Finding of No Significant Impact (FONSI), and the FONSI. The Revised EA was signed on October 31, 2017. The FONSI was issued on March 19, 2018. The Revised EA, Request for the FONSI, and FONSI can be viewed on the project's internet site at http://www.virginiadot.org/projects/fredericksburg/i-95_express_lanes_fredericksburg_extension.asp. These documents and other project records are also available by contacting FHWA or the Virginia Department of Transportation at the phone numbers and addresses provided above.

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [23 U.S.C. 138 and 49 U.S.C. 303].

4. Historic and Cultural Resources: Section 106 of the National Historic Preservation Act of 1966, as amended [54 U.S.C. 300101 et seq.].

5. Social and Economic: Farmland Protection Policy Act [7 U.S.C. 4201-4209].

6. Executive Orders: E.O. 12898, Federal Actions to Address Environmental Justice in Minority Populations and Low-Income Populations.

(Catalog of Federal Domestic Assistance Program Number 20.205, Highway Planning and Construction. The regulations implementing Executive Order 12372 regarding intergovernmental consultation on Federal programs and activities apply to this program.)

Authority: 23 U.S.C 139(l)(1)

Issued on: May 1, 2018.
John Simkins
Planning and Environment Team Leader, Richmond, VA.

[FR Doc. 2018-09810 Filed 5-7-18; 8:45 am]

BILLING CODE 4910-RY-P